DEPARTMENT OF ENERGY

Office of Energy Efficiency and Renewable Energy

Proposed Amendment of Agency Information Collection

AGENCY: Office of Energy Efficiency and Renewable Energy, Department of Energy (DOE).

ACTION: Submission for Office of Management and Budget (OMB) review; comment request.

SUMMARY: The Department of Energy is proposing to merge two information collections into one more broad collection, one of which is approved and one of which was previously proposed pursuant to the Paperwork Reduction Act of 1995. The approved collection is being used to develop a scorecard that will assist DOE's Clean Cities coalitions and stakeholders in assessing the level of readiness of their communities for plug-in electric vehicles (PEV). Information collected via the scorecard is intended to allow DOE to provide respondents with an objective assessment of their communities' readiness for PEV adoption and an understanding of their commitment to successful deployment of PEVs, and is needed to ensure appropriate evaluation of progress in deploying PEVs. The other, previously proposed information collection would be used to develop information that will enable DOE to measure the impact and progress of DOE's National Clean Fleets Partnership (Partnership). The Partnership is an initiative through which DOE provides large private-sector fleets with technical assistance and expertise to incorporate alternative fuels and fuel saving measures into their operations successfully. The initiative builds on the established success of DOE's Clean Cities Program. The Partnership was developed with input from fleet managers, industry representatives, Clean Cities program staff, and Clean Cities coordinators. DOE is also proposing to amend the PEV Scorecard information collection request by expanding the number of entities estimated to participate in the voluntary PEV Scorecard information collection.

DATES: Comments regarding this collection must be received on or before July 25, 2013. If you anticipate that you will be submitting comments, but find it difficult to do so within the period of time allowed by this notice, please advise the OMB Desk Officer of your intention to make a submission as soon as possible. The Desk Officer may be telephoned at (202) 395-4650.

ADDRESSES: Written comments should be sent to:

Desk Officer for the Department of Energy, Office of Information and Regulatory Affairs, Office of Management and Budget, New Executive Office Building, Room 10102, 735 17th Street NW., Washington, DC 20503

And to

Mr. Dennis Smith, Office of Energy Efficiency and Renewable Energy (EE-2G), U.S. Department of Energy, 1000 Independence Avenue SW., Washington, DC 20585-0121, or by fax at 202-586-1600, or by email at Dennis.Smith@ee.doe.gov.

FOR FURTHER INFORMATION CONTACT: Mr. Dennis Smith at the address listed above in ADDRESSES.

SUPPLEMENTARY INFORMATION: The PEV Scorecard information collection was previously proposed and available for public comment. See 77 FR 19275 (March 30, 2012) and 77 FR 39690 (July 5, 2012) and has since been cleared for use under OMB No. 1910-5171. The Clean Fleets Partnership information collection request also was previously proposed and available for public comment. See 77 FR 65374 (October 26, 2012) and 78 FR 14519 (March 6, 2013). Because both requests were developed by and for the DOE Clean Cities Program, DOE is proposing to merge these two requests so that they would operate under the same OMB No. 1910-5171. Merging the two information collections would not affect any of the management of the information collection requests themselves, or management of the information collected.

DOE is also proposing to amend the estimated burden associated with the PEV Scorecard information collection request. Initially, DOE envisioned that only Clean Cities coordinators, of which there approximately 90 presently, would avail themselves of the PEV Scorecard and feedback it will provide. The PEV Scorecard has been received enthusiastically by communities beyond the Clean Cities coalitions. In the first month, the public was accessing the PEV Scorecard in numbers unanticipated, making it such that the approved limit, 100 respondents, will be reached before all Clean Cities coordinators have an opportunity to access the PEV Scorecard. To ensure all Clean Cities coordinators and leaders of other communities are able to access the PEV Scorecard, DOE is proposing to increase the total number of unduplicated responses, from 100 to 1,250. The number represents the possible number of participating communities, which in turn is based on the approximate number of “Principal Cities” within Core Based Statistical Areas (the U.S. Census Bureau defines there to be approximately 1,250) DOE wants to increase the number of potential respondents to ensure all Clean Cities coordinators are able to participate, and also to address the expression of interest on the part of Clean Cities coordinators to support multiple municipalities in completing the PEV Scorecard within their coalition.

As merged, the amended information collection request contains: (1) OMB No. 1910-5171; (2) Information Collection Request Title: Clean Cities Vehicle Programs; (3) Type of Request: Amended collection; (4) Purpose: DOE's Clean Cities initiative has developed two voluntary mechanisms by which communities and certain fleets can get a better understanding of their readiness to deploy alternative fuel vehicles and their progress in doing so. The voluntary PEV Scorecard is intended to assist its coalitions and stakeholders in assessing the level of readiness of their communities for plug-in electric vehicles. The principal objective of the scorecard is to provide respondents with an objective assessment and estimate of their respective community's readiness for PEV deployment as well as understand the respective community's commitment to deploying these vehicles successfully. DOE intends the scorecard to be completed by a city/county/regional sustainability or energy coordinator. As the intended respondent may not be aware of every aspect of local or regional PEV readiness, coordination among local stakeholders to gather appropriate information may be necessary. See also 77 FR 19275 (March 30, 2012).

For the PEV Scorecard information collection request, DOE now expects that many communities beyond simply the Clean Cities coalitions may want to avail themselves of the opportunity to assess their respective community's PEV readiness. Therefore, DOE expects a total respondent population of approximately 1,250 respondents. Selecting the multiple choice answers in completing a scorecard questionnaire is expected to take under 30 minutes, although additional time of no more than 20 hours may be needed to assemble information necessary to be able to answer the questions, leading to a total burden of approximately 25,625 hours. Assembling information to update questionnaire answers in the future on a voluntary basis would be expected to take less time, on the order of 10 hours, as much of any necessary time and effort needed to research information would have been completed previously;

For the Clean Fleets Partnership information collection request, the Partnership is targeted at large, private-sector fleets that own or have contractual control over at least 50 percent of their vehicles and have vehicles operating in multiple States. DOE expects approximately 50 fleets to participate in the Partnership and, as a result, DOE expects a total respondent population of approximately 50 respondents. Providing initial baseline information for each participating fleet, which occurs only once, is expected to take 60 minutes. Follow-up questions and clarifications for the purpose of ensuring accurate analyses are expected to take up to 90 minutes. The total burden is expected to be 125 hours.

The combined burden for the two information collections is 25,750 hours.

(5) Type of Respondents: Public; (6) Annual Estimated Number of Respondents for both information collections: 1,300; (7) Annual Estimated Number of Total Responses: 1,300; (7) Annual Estimated Number of Burden Hours: 25,750 (25,625 for PEV Scorecard, and 125 for Clean Fleets Partnership); and (8) Annual Estimated Reporting and Recordkeeping Cost Burden: There is no cost associated with reporting and recordkeeping.

Authority: 42 U.S.C. 13233; 42 U.S.C. 13252 (a)-(b); 42 U.S.C. 13255.

Issued in Washington, DC, on: June 12, 2013.
Patrick B. Davis,
Director, Vehicle Technologies Office, Energy Efficiency and Renewable Energy.

[FR Doc. 2013-15126 Filed 6-24-13; 8:45 am]

BILLING CODE 6450-01-P